DEFENSE NUCLEAR FACILITIES SAFETY BOARD

Sunshine Act Notice

AGENCY: Defense Nuclear Facilities Safety Board.

ACTION: Meeting cancellation.

SUMMARY: The Defense Nuclear Facilities Safety Board (Board) published a notice in the Federal Register of July 27, 2015, (80 FR 44335), concerning a two-session public hearing and open meeting on August 26, 2015, at the Three Rivers Convention Center, 7016 West Grandridge Boulevard, Kennewick, Washington 99352. The Board corrected that notice in the Federal Register of August 28, 2015, (80 FR 52265), by postponing the Session II open meeting and supplementing the Session I hearing. The Board has now voted to cancel, in lieu of postponing, the Session II open meeting portion of the proceeding. The vote record for the cancellation of the open meeting will be posted on the Board's public Web site.

FOR FURTHER INFORMATION CONTACT: Mark Welch, General Manager, Defense Nuclear Facilities Safety Board, 625 Indiana Avenue NW., Suite 700, Washington, DC 20004-2901, (800) 788-4016. This is a toll-free number.

Dated: September 15, 2015.
Joyce L. Connery,
Chairman.

[FR Doc. 2015-23547 Filed 9-16-15; 11:15 am]

BILLING CODE 3670-01-P